DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 11 individual(s) and 28 entities) whose property and interests in property have been blocked pursuant to the Foreign Narcotics Kingpin Designation Act (“Kingpin Act”) (21 U.S.C. 1901-1908, 8 U.S.C. 1182).

DATES: The designation by the Director of OFAC of the 11 individuals and 28 entities identified in this notice pursuant to section 805(b) of the Kingpin Act is effective on December 29, 2011.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 29, 2011, the Director of OFAC designated the following 11 individuals and 28 entities whose property and interests in property are blocked pursuant to section 805(b) of the Kingpin Act.

Individuals

1. ARBELAEZ VELEZ, Ivan Dario, c/o FARBE COMUNICACIONES LTDA; c/o AGROESPINAL S.A.; DOB 26 Jul 1967; POB Medellin, Colombia; Cedula No. 98541418 (Colombia) (individual) [SDNTK].

2. CHEAITELLI SAHELI, Guiseppe Ali, c/o POLYTON (ASIA) LIMITED; DOB 10 Feb 1966; POB Maicao, La Guajira, Colombia; Cedula No. 84046545 (Colombia) (individual) [SDNTK].

3. EDERY CRIVOSEI, Jaime, c/o AGROPECUARIA LA PERLA LTDA.; c/o KPD S.A.; DOB 27 Aug 1957; POB Bogota, Colombia; Cedula No. 16588834 (Colombia) (individual) [SDNTK].

4. EL KHANSA, Ahmad, c/o GLOBAL TECHNOLOGY IMPORT & EXPORT, S.A. (GTI); DOB 4 Oct 1967; POB Ghobeiry, Lebanon; Passport RL 0884631 (Lebanon) (individual) [SDNTK].

5. EL KHANSA, Mohamad Zouheir (a.k.a. TORRES ZAMBRANO, Manuel), c/o ALMACEN ELECTRO SONY STAR; c/o GLOBAL TECHNOLOGY IMPORT & EXPORT, S.A. (GTI); c/o MICRO EMPRESA ASHQUI; DOB 9 Jan 1971; alt. DOB 9 Jan 1970; POB Ghobeiri, Lebanon POB Barranquilla, Colombia; Cedula No. 84077765 (Colombia); Passport RL 0736643 (Lebanon) (individual) [SDNTK].

6. FADLALLAH CHEAITELLY, Jorge (a.k.a. CHEAITELLY SAHELE, Jorge Ali; a.k.a. “GIORGIO”), c/o BODEGA ELECTRO GIORGIO; c/o EUROCAMBIO, S.A.; c/o GENERAL COMMERCE OVERSEAS, INC.; c/o PRODUCERS GROUP CORP.; c/o ZEDRO INVESTMENT, S.A.; c/o GIORGINO CORPORATION OF PANAMA, S.A.; c/o GIORGIO CHEAITELLY INVESTMENT, S.A.; c/o GIORGIOTELLY, S.A.; c/o III MILLENIUM INTERNATIONAL; c/o J.H. EXIM INTERNACIONAL, S.A.; c/o SANTA MARIA INTERNATIONAL TRADING CORP.; c/o SILVER HOUSE, INC.; c/o OCEAN INDIC OVERSEAS, S.A.; c/o JUNIOR INTERNATIONAL S.A.; DOB 20 Dec 1960; POB Maicao, La Guajira, Colombia; Cedula No. 17849451 (Colombia) (individual) [SDNTK].

7. FADLALLAH CHEAYTELLI, Jaime, c/o GENERAL COMMERCE OVERSEAS, INC.; c/o EURO EXCHANGE Y FINANCIAL COMMERCE, INC.; DOB 18 Jul 1967; POB Maicao, La Guajira, Colombia; Cedula No. 84048039 (Colombia) (individual) [SDNTK].

8. FADLALLATH CHEAITILLY, Fatima (a.k.a. FADLALLAH CHEAITELLY, Fatima), c/o ZEDRO INVESTMENT, S.A.; c/o GIORGINO CORPORATION OF PANAMA, S.A.; c/o GIORGIO CHEAITELLY INVESTMENT, S.A.; c/o SILVER HOUSE, INC.; c/o ALMACEN ELECTRO SONY STAR; c/o COMERCIAL GLOBANTY; DOB 8 Dec 1972; POB Maicao, La Guajira, Colombia; Cedula No. 56083194 (Colombia) (individual) [SDNTK].

9. ISSA FAWAZ, Benny (a.k.a. ISSA FAUSE, Benny), Calle 12, No. 10-79, Maicao, La Guajira, Colombia; Calle 13, No. 7-49, Barrio El Centro, Maicao, La Guajira, Colombia; c/o FAMILY FEDCO; c/o FEDCO IMPORT & EXPORT, S.A.; DOB 29 Sep 1974; POB Barranquilla, Colombia; Cedula No. 72204490 (Colombia); Passport 72204490 (Colombia) (individual) [SDNTK].

10. RAHALL, Fawaz Mohamad, Calle 122, No. 11B-37, Colombia; DOB 23 Feb 1969; POB Lala, Lebanon; Cedula No. 5176876 (Colombia) (individual) [SDNTK].

11. SALEH, Ali Mohamad, c/o ALMACEN BATUL; c/o COMERCIAL ESTILO Y MODA; DOB 1 Jan 1974; Cedula No. 1124006380 (Colombia) (individual) [SDNTK].

Entities

12. AGROPECUARIA LA PERLA LTDA. (a.k.a. “AGROPERLA”), Calle 18 Norte, No. 3N-24, Oficina 602, Cali, Colombia; NIT # 8002113865 (Colombia) [SDNTK].

13. ALMACEN BATUL (a.k.a. “BODEGA CAMPEON”), Calle 10A, No. 11A-41/45, Maicao, La Guajira, Colombia; Matricula Mercantil No 36817 (Colombia); NIT # 639000204-4 (Colombia) [SDNTK].

14. ALMACEN ELECTRO SONY STAR (a.k.a. “MICROEMPRESA KHANSA”), Calle 13, No. 10-45, Maicao, La Guajira, Colombia; NIT # 639000271-8 (Colombia)[SDNTK].

15. BODEGA ELECTRO GIORGIO, Calle 14 No. 8-67, Maicao, La Guajira, Colombia; Matricula Mercantil No 00027344 (Colombia) [SDNTK].

16. CAFE DU LIBAN, S.A., Avenida Eloy Alfaro, Panama City, Panama; RUC # 36266-1-368869 (Panama) [SDNTK].

17. COMERCIAL ESTILO Y MODA, Calle 10A, No. 11A-41/45, Maicao, La Guajira, Colombia; NIT # 639000204-4 (Colombia) [SDNTK].

18. COMERCIAL GLOBANTY, Calle 13, No. 10-19, Local 02, Maicao, La Guajira, Colombia; Calle 13, No. 10-36, Maicao, La Guajira, Colombia; Matricula Mercantil No 102964 (Colombia); NIT # 56083194-1 (Colombia) [SDNTK].

19. EURO EXCHANGE Y FINANCIAL COMMERCE, INC. (a.k.a. “EUREX”), Avenida Eusebio A Morales y Via Veneto—Hotel Veneto, Planta Baja, Local 6, Panama City, Panama; Edificio Servicios Aeroportuarios, Segundo Piso, Local 12, Panama City, Panama; RUC # 1652278-1-675861 (Panama) [SDNTK].

20. EUROCAMBIO, S.A. (a.k.a. “CASA DE CAMBIO EUROCAMBIO”), Calle Ricardo Arias, Edificio Macondo, Local 2-A, Panama City, Panama; RUC # 17762-1-366473 (Panama) [SDNTK].

21. FAMILY FEDCO, Calle 13, No. 14-36, Maicao, La Guajira, Colombia; NIT # 72204490-4 (Colombia) [SDNTK].

22. FARBE COMUNICACIONES LTDA, Carrera 81 A 34, No. C-43, Medellin, Colombia; Matricula Mercantil No 21-290521-03 (Colombia); NIT # 811030724-4 (Colombia) [SDNTK].

23. FEDCO IMPORT & EXPORT, S.A., La Calle 16 Avenue, Santa Isabel, P.O. Box 3114, Zona Libre, Colon, Panama; RUC # 660249-1-461129 (Panama) [SDNTK].

24. GENERAL COMMERCE OVERSEAS, INC., Calle Ricardo Arias, Edificio Macondo, Local 2-A, Panama City, Panama; RUC # 1109850-1-561818 (Panama) [SDNTK].

25. GIORGINO CORPORATION OF PANAMA, S.A., Panama; RUC # 27216-2-227535 (Panama) [SDNTK].

26. GIORGIO CHEAITELLY INVESTMENT, S.A., Panama; RUC # 31850-2-245132 (Panama) [SDNTK].

27. GIORGIOTELLY, S.A., Panama; RUC # 33518-38-252229 (Panama) [SDNTK].

28. GLOBAL TECHNOLOGY IMPORT & EXPORT, S.A. (GTI), Calle 50 Y 53 Marbella, Edificio Plaza 2000, Piso 7, Panama City, Panama; RUC # 1061547-1-549692 (Panama) [SDNTK].

29. III MILLENIUM INTERNATIONAL, Panama; RUC # 16927-1-366365 (Panama) [SDNTK].

30. J.H. EXIM INTERNACIONAL, S.A., Panama; RUC # 46110-70-302460 (Panama) [SDNTK].

31. JUNIOR INTERNATIONAL S.A. (a.k.a. JUNIOR INTERNACIONAL S.A.), Panama; RUC # 17458-23-164253 (Panama) [SDNTK].

32. KPD S.A., Calle 18 Norte, No. 3N-24, Oficina 602, Cali, Colombia; NIT # 9000420320 (Colombia) [SDNTK].

33. MICRO EMPRESA ASHQUI, Carrera 10, No. 12-51, Apt. 301, Maicao, La Guajira, Colombia; Matricula Mercantil No 0036550 (Colombia) [SDNTK].

34. OCEAN INDIC OVERSEAS, S.A., Panama; RUC # 21523-11-193299 (Panama) [SDNTK].

35. POLYTON (ASIA) LIMITED, 20-F China Overseas Building, 139 Hennesy Road, Wan Chai, Hong Kong; Business Registration Document # 38365991 (Hong Kong) [SDNTK].

36. PRODUCERS GROUP CORP., Panama; RUC # 59443-40-344348 (Panama) [SDNTK].

37. SANTA MARIA INTERNATIONAL TRADING CORP., Panama; RUC # 45579-11-300568 (Panama) [SDNTK].

38. SILVER HOUSE, INC., Panama; RUC # 1258011-1-80105701 (Panama) [SDNTK].

39. ZEDRO INVESTMENT, S.A., Panama; RUC # 31906-42-245391 (Panama) [SDNTK].

Dated: December 29, 2011.
Barbara C. Hammerle,
Acting Director, Office of Foreign Assets Control.

[FR Doc. 2012-36 Filed 1-5-12; 8:45 am]

BILLING CODE 4810-AL-P